ENVIRONMENTAL PROTECTION AGENCY

[ER-FRL-6684-8]

Environmental Impact Statements and Regulations; Availability of EPA Comments

Availability of EPA comments prepared pursuant to the Environmental Review Process (ERP), under section 309 of the Clean Air Act and Section 102(2)(c) of the National Environmental Policy Act as amended. Requests for copies of EPA comments can be directed to the Office of Federal Activities at 202-564-7167. An explanation of the ratings assigned to draft environmental impact statements (EISs) was published in FR dated April 7, 2006 (71 FR 17845).

Draft EISs

EIS No. 20060462, ERP No. D-COE-K59006-CA, Cajon, Third Main Track, Construction from Summit to Keenbrook, Special Use Permit and U.S. Army COE 404 Permit, San Bernardino County, CA.

Summary: EPA expressed environmental concerns about air quality impacts and water-related issues. Rating EC2.

EIS No. 20060467, ERP No. D-FHW-K40262-CA, Interstate 5 (Santa Ana Freeway) Project, Improvement from State Route 91 in Orange County to Interstate 605 in Los Angeles County, CA.

Summary: EPA expressed environmental concerns about the potential for project segmentation, a lack of analysis for mobile source air toxics (MSATs) hotspots, and the inconsistent reporting of environmental justice impacts. EPA recommends quantifying the construction and operational emissions for MSATs, conducting dispersion modeling of the most significant MSATs, and identifying hotspots and appropriate avoidance, minimization, and/or mitigation opportunities. Rating EC2.

EIS No. 20060498, ERP No. D-COE-K60037-CA, Rio del Oro Specific Plan Project, To Establish a Development Framework for Land Use, Resource Protection, Circulation, Public Utilities and Services, City of Rancho Cordova, Sacramento County, CA.

Summary: EPA expressed environmental concerns about wetland impacts, and requested additional information regarding compliance with the Clean Water Act. Rating EC2.

EIS No. 20060509, ERP No. D-SFW-L61233-WA, Hanford Reach National Monument Comprehensive Conservation Plan, Management of Monument Resources, Programs and Visitors for the next 15 years, Adams, Benton. Franklin and Grant Counties, WA.

Summary: EPA does not object to the proposed action. Rating LO.

EIS No. 20060518, ERP No. D-FHW-F40438-IN, I-69 Evansville to Indianapolis Project, I-69 Tier 2 Section 1: Evansville to Oakland City, from 1-64 to IN-64, Gibson and Warrick Counties, IN

Summary: EPA does not object to the proposed action, but requests clarification of mitigation measures and their implementation. Rating LO.

EIS No. 20060535, ERP No. D-FHW-L40232-ID, US-95 Garwood to Sagle (from MP-438.4 to MP 469.75) Transportation Improvements to Present and Future Traffic Demand, Funding, NPDES Permit and U.S. Army COE Section 404 Permit, Kootenai and Bonner Counties, ID.

Summary: EPA expressed environmental concerns about potential impacts to aquatic resources, wildlife habitat, and prime farmland. EPA recommended mitigation for air quality impacts during construction, and requested more information regarding groundwater/sole source aquifer impacts, surface water quality and TMDL implementation, riparian and floodplain impacts and avoidance. Rating EC2.

EIS No. 20070001, ERP No. D-AFS-K65325-CA, Turntable Bay Marina Master Development Plan, To Build and Operate a Resort Marina, Special-Use-Permit, Shasta-Trinity National Forest, Shasta Lake at Turntable Bay, Shasta and Trinity Counties, CA.

Summary: While EPA does not object to the Preferred Alternative, but requested clarification on project goals and timing of construction to minimize air quality impacts. Rating LO.

EIS No. 20070011, ERP No. D-FHW-F40402-MI, I-94 Jackson Freeway Modernization Project, Improvements between Michigan State Route-60 (MI-60) and Sargent Road, Funding and NPDES and US Army COE Section 404 Permits Issuance, Jackson County, MI.

Summary: EPA's previous concerns have been resolved; therefore, EPA does not object to the proposed action. Rating LO.

EIS No. 20060477, ERP No. DS-AFS-J65403-00, Southern Rockies Canada Lynx Amendment, Updated Information, Incorporating Management Direction for Canada Lynx Habitat by Amending Land and Resource Management Plans, for Arapaho-Roosevelt, Pike-San Isabel, Grand Mesa-Uncompahgre-Gunnison, San Juan, Rio Grande and Medicine Bow-Routt National Forests, Implementation, CO and WY.

Summary: EPA expressed environmental concerns about the preferred alternative has the most potential of the action alternatives to adversely effect water quality from erosion and sedimentation, impact wildlife and vegetation and cause fragmentation of critical lynx habitat. In addition, the final EIS should expand the analysis of cumulative impacts. Rating EC2.

Final EISs

EIS No. 20060533, ERP No. F-FHW-D40310-VA, I-73 Location Study, between Roanoke and the North Carolina State Line Commonwealth of Virginia, Construction and Operation, Cities of Roanoke and Martinsville, Counties of Bedford, Botetourt, Franklin, Henry, and Roanoke, VA.

Summary: EPA continues to have environmental concerns about forest habitat impacts, and requested mitigation to reduce those impacts.

EIS No. 20060538, ERP No. F-FRC-E03016-MS, Casotte Landing Liquefied Natural Gas (LNG) Import and Interstate Natural Gas Transmission Facilities, Construction and Operation, U.S. Army COE Section 404 Permit, (FERC/EIS-0193D), near the City of Pascagoula, Jackson County, MS.

Summary: EPA supports the selected preferred alternative for the proposed project with the FERC staff's mitigation measures identified in the final EIS. EPA requested that FERC and the applicant give further consideration to addressing the remaining outstanding issues including air quality, risk analysis, and wetland impacts.

EIS No. 20070000, ERP No. F-AFS-L65455-ID, Clearwater National Forest, Proposes to Approve Plans-of-Operation for Small-Scale Suction Dredging in Lolo Creek and Moose Creek, Clearwater National Forest, North Fork Ranger District, Clearwater and Idaho Counties, ID.

Summary: The final EIS adequately addressed EPA's major concerns with water quality, especially by using monitoring, timing and location provisions and adaptive management to minimize impacts from projects. Therefore, EPA does not object to the proposed project.

EIS No. 20070010, ERP No. F-FHW-G40187-LA, East-West Corridor Highway Component, from I-130 to Louis Armstrong International Airport, to Central Business District (CBD), Jefferson, Orleans and St. Charles Parishes, LA.

Summary: No formal comment letter was sent to the preparing agency.

EIS No. 20070013, ERP No. F-DOE-E01016-FL, Orlando Gasification Project (DOE/EIS-0383), To Provide Cost-Shared Funding for Construction, Design, and Operation a New Plant, Orlando, FL.

Summary: EPA continues to have environmental concerns about impacts to air quality and wetlands, and requested that additional mitigation measures be implemented.

EIS No. 20070020, ERP No. F-AFS-L65474-AK, Tuxekan Island Timber Sale(s) Project, Timber Harvesting, Implementation, Coast Guard Bridge Permit, U.S. Army COE Section 10 and 404 Permits, Tongass National Forest, Thorne Bay Ranger District, Thorne Bay, AK.

Summary: EPA's previous environmental concerns about impacts to water quality, fisheries, wetlands, and wildlife habitat have been addressed; therefore, EPA does not object to the proposed action.

EIS No. 20070034, ERP No. F-SFW-J65447-WY, Bison and Elk Management Plan, Implementation, National Elk Refuge/Grand Teton National Park/John D. Rockefeller, Jr. Memorial Parkway, Teton County, WY.

Summary: No formal comment letter was sent to the preparing agency.

EIS No. 20070054, ERP No. F-NPS-J61110-UT, Utah Museum of Natural History, Construction and Operation, New Museum Facility at University of Utah, Salt Lake City, UT.

Summary: No formal comment letter was sent to the preparing agency.

Dated: March 6, 2007.
Robert W. Hargrove,
Director, NEPA Compliance Division, Office of Federal Activities.

[FR Doc. E7-4246 Filed 3-8-07; 8:45 am]

BILLING CODE 6560-50-P